DEPARTMENT OF COMMERCE

National Institute of Standards and Technology

[Docket No.: 000911256-0256-01]

RIN 0693-ZA40

Small Grant Programs

Availability of 2001 Funds for: (1) Precision Measurement Grants—Availability of Funds; (2) Physics Laboratory (PL), 2001 Summer Undergraduate Research Fellowships (SURF); (3) Materials Science and Engineering Laboratory (MSEL), 2001 Summer Undergraduate Research Fellowships (SURF); (4) Manufacturing Engineering Laboratory (MEL), 2001 Summer Undergraduate Research Fellowships (SURF); (5) Information Technology Laboratory (ITL), 2001 Summer Undergraduate Research Fellowships (SURF); (6) Building and Fire Research Laboratory (BFRL), 2001 Summer Undergraduate Research Fellowships (SURF); (7) Electronics and Electrical Engineering Laboratory (EEEL), 2001 Summer Undergraduate Research Fellowships (SURF); (8) Materials Science and Engineering Laboratory (MSEL) Grants Program—Availability of Funds; (9) Fire Research Grants Program—Availability of Funds; (10) Physics Laboratory (PL) Grants Program—Availability of Funds; (11) Chemical Science and Technology Laboratory (CSTL) Grants Program—Availability of Funds; (12) Manufacturing Engineering Laboratory (MEL) Grants Program—Availability of Funds; and; (13) Electronics and Electrical Engineering Laboratory (EEEL) Grants Program—Availability of Funds.

AGENCY: National Institute of Standards and Technology, Commerce.

ACTION: Notice

SUMMARY: The purpose of this notice is to inform potential applicants that the following programs of the National Institute of Standards and Technology (NIST) are offering financial assistance as follows: (1) The Precision Measurement Grants Program; (2) the 2001 Summer Undergraduate Research Fellowships (SURF) in the areas of Atomic, Molecular and Optical (AMO) and Radiation Physics, in Materials Science and Engineering, in Manufacturing Engineering, in Information Technology, in Building and Fire Research, and in Electronics and Electrical Engineering; (3) the Materials Science and Engineering Grants Program; (4) the Fire Research Grants Program; (5) the Physics Laboratory Grants Program; (6) the Chemical Science and Technology Laboratory Grants Program; (7) the Manufacturing Engineering Laboratory (MEL) Grants Program, and (8) the Electronics and Electrical Engineering (EEEL) Grants Program. In order to make any awards this fiscal year, it is necessary to begin the application process now. The issuance of awards is subject to the availability of FY 2001 funds. Further notice will be made in the Federal Register about the final status of funding for these programs at the appropriate time. NIST shall not be liable for any proposal preparation costs.

The Precision Measurement Grants Program is seeking proposals for significant, primarily experimental, research in the field of fundamental measurement or the determination of fundamental constants.

The programs “SURFing the Physics Laboratory,” “SURFing the Materials Science and Engineering Laboratory,” “SURFing the Manufacturing Engineering Laboratory,” “SURFing the Information Technology Laboratory,” “SURFing the Building and Fire Research Laboratory,” and “SURFing the Electronics and Electrical Engineering Laboratory” will provide an opportunity for the NIST Physics Laboratory (PL), Materials Science and Engineering Laboratory (MSEL), Manufacturing Engineering Laboratory (MEL), Information Technology Laboratory (ITL), Building and Fire Research Laboratory (BFRL), and Electronics and Electrical Engineering Laboratory (EEEL), and the National Science Foundation (NSF) to join in a partnership to encourage outstanding undergraduate students to pursue careers in science and engineering.

The PL program will involve students in world-class atomic, molecular, optical (AMO) and radiation physics research with internationally known physicists in the NIST Physics Laboratory. The MSEL program will provide research opportunities with internationally known NIST scientists in the fields of ceramics, solid state chemistry, metallurgy, polymers, neutron condensed matter science, and materials reliability. The MEL program will provide research opportunities with internationally known NIST scientists in the fields of intelligent systems, manufacturing metrology, precision engineering, and manufacturing systems integration. The ITL program will provide research opportunities with internationally known NIST scientists in the field of networking, software quality, security, information access, convergent systems, mathematical science, and statistics. The BFRL program will provide research opportunities with internationally known NIST scientists in the fields of building materials (concrete, coating), structure (earthquake), building environment (indoor air quality, thermal machinery), and fire science and engineering. The EEEL program will provide research opportunities with internationally known NIST scientists in the fields of semiconductors (including mainstream silicon, power devices, and compound semiconductors), fundamental electrical measurements, electronic instrumentation, electrical systems, and electronic information. The NIST Program Directors will work with physics, materials science, manufacturing engineering, intelligent systems, automated production, precision engineering, information technology, building materials, constructed structures, and other science-related department chairs and directors of multi-disciplinary academic organizations to identify outstanding undergraduates (including graduating seniors) who would benefit from off-campus summer research in an honors academy environment.

The Materials Science and Engineering Laboratory (MSEL) Grants Program is continuing its program for grants and cooperative agreements in the following fields of research: Ceramics, Metallurgy, Polymer Sciences, Neutron Scattering Research and Spectroscopy.

The Fire Research Grants Program is limited to innovative ideas in the fire research area generated by the proposal writer, who chooses the topic and approach, consistent with the program description and objectives of this notice.

The Physics Laboratory (PL) Grants Program will provide grants and cooperative agreements in the following fields of research: Electron and Optical Physics, Atomic Physics, Optical Technology, Ionizing Radiation, and Time and Frequency.

The Chemical Science and Technology Laboratory (CSTL) Grants Program will provide grants and cooperative agreements in the following fields of research: Biotechnology, Process Measurements, Surface and Microanalysis Science, Physical and Chemical Properties, and Analytical Chemistry.

The Manufacturing Engineering Laboratory (MEL) Grants Program is initiating a program for grants and cooperative agreements in the following fields of research: Dimensional Metrology for Manufacturing, Mechanical Metrology for Manufacturing, Intelligent Systems, and Information Systems Integration for Application in Manufacturing.

The Electronics and Electrical Engineering (EEEL) Grants Program provides grants and cooperative agreements for the development of fundamental electrical metrology and of metrology supporting industry and government agencies in the broad areas of semiconductors, electronic instrumentation, radio-frequency technology, optoelectronics, magnetics, video, electronic commerce as applied to electronic products and devices, the transmission and distribution of electrical power, national electrical standards (fundamental, generally quantum-based physical standards), and law enforcement standards.

Precision Measurement Grants Program

Dates: Applicants for the Precision measurement Grants Program must submit an abbreviated proposal for preliminary screening. Based on the merit of the abbreviated proposal, applicants will be advised whether a full proposal should be submitted. The abbreviated proposals must be received at the address listed below no later than the close of business February 1, 2001. The semi-finalists will be notified of their status by March 23, 2001, and will be requested to submit full proposals to NIST by close of business on May 11, 2001. NIST expects to issue awards on or before September 30, 2001.

Addresses: For the Precision Measurement Grants Program, applicants are requested to direct technical questions and submit an abbreviated proposal (original and two (2) signed copies), with a description of their proposed work of no more than five (5) double spaced pages to: Dr. Peter J. Mohr, Chairman, NIST Precision Measurement Grants Committee, National Institute of Standards and Technology, Bldg. 225, Rm. B161, 100 Bureau Drive, Stop 8401, Gaithersburg, MD 20899-8401, Tel: (301) 975-3217, E-mail: mohr@nist.gov, Website: http://physics.nist.gov/pmg.

Authority: The authority for the Precision Measurement Grants Program is as follows: As authorized by 15 U.S.C. 272(b) and 9c), NIST conducts directly, and supports through grants and cooperative agreements, a basic and applied research program in the general area of fundamental measurement and the determination of fundamental constants of nature.

Program Description and Objectives: The program description and objectives for the Precision Measurement Grants Program are as follows: As part of its research program, since 1970 NIST has awarded Precision Measurement Grants to U.S. universities and colleges so that faculty may conduct significant, primarily experimental research in the field of fundamental measurement or the determination of fundamental constants. NIST sponsors these grants and cooperative agreements primarily to encourage basic, measurement-related research in U.S. universities and colleges and to foster contacts between NIST scientists and those faculty members of U.S. academic institutions who are actively engaged in such work. The Precision Measurement Grants are also intended to make it possible for researchers to pursue new, fundamental measurement ideas for which other sources of support may be difficult to find. There is some latitude in research topics that will be considered under the Precision Measurement Grants Program. The key requirement is that the proposed project support NIST's ongoing work in the field of basic measurement science, which includes:

1. Experimental and theoretical studies of fundamental physical phenomena which test the basic laws of physics or which may lead to new or improved fundamental measurement methods and standards.

2. The determination of important fundamental physical constants.

Although proposals for either experimental or theoretical research will be considered, the former will be given preference because of the more immediate applicability of experimental work to metrology, Proposals from workers at the assistant and associate professor level who have some record of accomplishment are especially encouraged in view of the comparative difficulty aspiring researchers have in obtaining funds.

Typical projects which have been funded through the NIST Precision Measurement Grants Program include:

(1) A test of local Lorentz invariance using polarized ²¹Ne nuclei, T.E. Chupp, Harvard University.

(2) A new method to search for an electric dipole moment of the electron, L.R. Hunter, Amherst College.

(3) High-precision timing of millisecond pulsars, D.R. Stinebring, Princeton University.

(4) Development of an atom interferometer gyroscope for tests of general relativity, M. Kasevich, Stanford University.

(5) Spectroscopy of francium: towards a precise parity nonconservation measurement in a laser trap, Luis A. Orozco, State University of New York at Stony Brook.

(6) Measurement of the magnetically-induced QED birefringence of the vacuum, Siu Au Lee, Colorado State University.

(7) Measurement of Newton's constant G using a new method, J.H. Gundlach, University of Washington.

(8) Measurement of the polarization of the cosmic microwave background, S.T. Staggs, Princeton University.

Eligibility: Eligible applicants are institutions of higher education, other non-profits, commercial organizations, international organizations, state, local and Indian tribal governments and Federal agencies. Applications from non-Federal and Federal applicants will be competed against each other. Proposals selected for funding from non-Federal applicants will be funded through a project grant or cooperative agreement under the terms of this notice. Proposals selected for funding from non-NIST Federal agencies will be funded through an interagency transfer. Please Note: Before non-NIST Federal applicants may be funded, they must demonstrate that they have legal authority to receive funds from another federal agency in excess of their appropriation. As this announcement is not proposing to procure goods or services from applicants, the Economy Act (31 U.S.C. 1535) is not an appropriate legal basis.

Funding Availability: For the Precision Measurement Grants Program, the annual budget is approximately $300,000. Two new grants in the amount of $50,000 per year will be awarded; the remaining $200,000 will fund continuing grants. Applicants must propose multi-year projects, not to exceed three (3) years. The scope of work must be clearly severable into annual increments of meaningful work that represent solid accomplishments in case continued funding is not made available to the applicant. Because of commitments for supporting multi-year programs, only a portion of the budget is available to initiate new programs or continue existing ones in any one year.

Proposal Review Process and Evaluation Criteria: For the Precision Measurement Grants Program, to simplify the proposal writing and evaluation process, the following selection procedure will be used:

Applicants will initially submit abbreviated proposals and these will be reviewed on the basis of the evaluation criteria given below. The NIST Precision Measurement Grants Committee and an Outside Review Committee will then select approximately four to eight semifinalists and request that these candidates submit full proposals. The same committees will evaluate the detailed proposals based on the same evaluation criteria. In making recommendations for funding, the program's selecting official will take into consideration the results of the evaluations, the extent to which the proposed research would support NIST's understanding, improvement, or development of measurement methods or physical standards, and his or her judgment as to which applications, when the slate is taken as a whole, are likely to best further the objectives of the NIST Precision Measurements Grants Program, as described above in the Program Description and Objectives section. Two grantees for fiscal year 2002 will be selected. The final approval of selected applications and award of grants or cooperative agreements will be made by the NIST Grants Officer based on compliance with application requirements as published in this notice, compliance with applicable legal and regulatory requirements, and whether the recommended applicants appear to be responsible. Applicants may be asked to modify objectives, work plans, or budgets and provide supplemental information required by the agency prior to award. The decision of the Grants Officer is final.

The evaluation criteria to be used in evaluating the abbreviated application proposals and full proposals are:

1. The importance of the proposed research—Does it have the potential of answering some currently pressing question or of opening up a whole new area of activity?

2. The relationship of the proposed research to NIST's ongoing work—Will it support one of NIST's current efforts to develop a new or improved fundamental measurement method or physical standard, or to better understand an important, but already existing, measurement method or physical standard?

3. The feasibility of the research—Is it likely that significant progress can be made in a three year time period with the funds and personnel available?

4. The past accomplishments of the applicant—Is the quality of the research previously carried out by the prospective grantee such that there is a high probability that the proposed research will be successfully carried out?

Each of these factors is given equal weight in the evaluation process.

Award Period: For the Precision Measurement Grants Program, NIST is now accepting applications for two new grants in the amount of $50,000 per year to be awarded for the period October 1, 2001, through September 30, 2002 (fiscal year 2002). Each award may be continued for up to two additional years; however, future or continued funding will be at the discretion of NIST based on satisfactory performance, continuing relevance to program objectives, and the availability of funds.

Matching Requirements: The Precision Measurement Grants Program does not require any matching funds.

Application Kit: For the Precision Measurement Grants Program, an application kit, containing all required application forms and certifications, is available by contacting Ms. Michelle Hane, (301) 975-4397.

PL, MSEL, MEL, ITL, BFRL, and EEEL SURF Programs

Dates: The PL, MSEL, MEL, ITL, BRFL, and EEEL SURF Programs proposals must be received no later than the close of business February 15, 2001.

Addresses: For the PL, MSEL, MEL, ITL, BFRI, and EEEL SURF Programs, applicant institutions must submit one signed original and two (2) copies of the proposal to: Attn.: Ms. Anita Sweigert, National Institute of Standards and Technology; 100 Bureau Drive, Stop 8400, Gaithersburg, MD 20899-8400, Tel: (301) 975-4200, E-Mail: anita.sweigert@nist.gov, Website: http://www.surf.nist.gov

Technical questions for the PL, MSEL, MEL, ITL, BFRL, and EEEL SURF Programs should be directed to the following contact persons: for the PL SURF Program, Dr. Marc Desrosiers, Tel: (301) 975-5639, E-mail: marc.desrosiers@nist.gov; for the MSEL SURF Program, Dr. Terrell A. Vanderah, Tel: (301) 975-5785, E-mail: terrell.vanderah@nist.gov; for the MEL SURF Program, Ms. Lisa Jean Fronczek, Tel: (301) 975-6633, E-mail: lfronczek@nist.gov: for the ITL SURF Program, Dr. Larry Reeker, Tel: (301) 975-5147, E-mail: larry.reeker@nist.gov: for the BFRL SURF Program, Dr. Chris White, Tel: (301) 975-6016, E-mail: cwhite@nist.gov: and for the EEEL SURF Program, Dr. David Newell, Tel: (301) 975-4228, E-mail: david.newell@nist. gov.

Authority: The authority for the PL, MSEL, MEL, ITL, BFRL and EEEL SURF Programs is as follows: 15 U.S.C. 278g-l sizes NIST to fund financial assistance awards to students at institutions of higher learning within the United States. These students must show promise as present or future contributors to the missions of NIST. Cooperative agreements are awarded to assure continued growth and progress of science and engineering in the United States, including the encouragement of women and minority students to continue their professional development.

Program Description and Objectives: The program description and objectives for the PL, MSEL, MEL, ITL, BFRL, and EEEL SURF Programs are as follows: To build a mutual beneficial relationship between the student, the institution of higher learning, and NIST. This is the ninth year of the PL SURF Program, which is partially funded by the NSF Physics Division as a Research Experience for Undergraduates (REU) site. This is the fourth year of the MSEL SURF Program funded by the NSF Division of Materials Research (DMR) as a Research Experience for Undergraduates (REU) site. This is the third year of the MEL SURF Program funded by the NSF Division of Engineering Education and Centers (EEC) as a Research Experience for Undergraduates (REU) site. This is the first year of the ITL, BFRL, and EEEL SURF Programs. Less than ten percent of the associated student subsistence, travel and lodging has been provided in costs sharing by the participating institutions in previous years.

NIST is one of the nation's premiere research institutions for the physical and engineering sciences and, as the lead Federal agency for technology transfer, provides a strong interface between government, industry and academia. NIST embodies a special science culture, developed from a large and well-equipped research staff that enthusiastically blends programs that address the immediate needs of industry with longer-term research that anticipates future needs. This occurs in few other places and enables the Physics Laboratory, the Materials Science and Engineering Laboratory, the Manufacturing Engineering Laboratory, the Information Technology Laboratory, the Building and Fire Laboratory, and the Electronics and Electrical Engineering Laboratory to offer unique research and training opportunities for undergraduates, providing them a research-rich environment and exposure to state of the art equipment.

Attending to the long-term needs of many U.S. high-technology industries, NIST's Physics Laboratory conducts basic research in the areas of quantum, electron, optical, atomic, molecular, and radiation physics. To achieve these goals, PL staff develop and utilize highly specialized equipment, such as polarized electron microscopes, scanning tunneling microscopes, lasers, and x-ray and synchrontron radiation sources. Research projects can be theoretical or experimental and will range in focus from computer modeling of fundamental processes through trapping atoms and choreographing molecular collisions, to standards for radiation therapy.

NIST's Materials Science and Engineering Laboratory conducts basic research in the electronic, magnetic, optical, superconducting, mechanical, thermal, chemical, and structural properties of metals, ceramics, polymers, and composites. Much of this applied research is devoted to overcoming barriers to the next technological revolution, in which individual atoms and molecules will serve as the fundamental building blocks of devices. Preparation of unique materials by atomic level tailoring of multi-layers, perfect single crystals, and nanocomposites are just some of the future technologies being developed and explored in NIST's MSEL. To achieve these goals, staff develop and utilize highly specialized equipment, such as high resolution electron microscopes, atomic force microscopes, neutron scattering instruments, x-ray diffraction sources, lasers, magnetometers, plasma furnaces, melt spinners, molecular beam epitaxy systems, and thermal spray systems. Research projects can be theoretical or experimental and will range in focus from the structural, chemical, and morphological characterization of advanced materials made in the NIST laboratories to the accurate measurement of the unique properties possessed by these special materials.

NIST's Manufacturing Engineering Laboratory conducts theoretical and experimental research in length, mass, force, vibration, acoustics, and ultrasonics, as well as intelligent machines, precision control of machine tools, information technology for the integration of all elements of a product's life cycle. Much of this applied research is devoted to overcoming barriers to the next technological revolution, in which manufacturing facilities are spread across the globe. MEL's research and development leads to standards, test methods and data that are crucial to industry's success in exploiting advanced manufacturing technology. Critical components of manufacturing at any level are measurement and measurement-related standards, not just of products, but increasingly of information about products and processes. Thus, MEL programs enhance both physical and information-based measurements and standards. Research projects can be theoretical or experimental, and will range in focus from intelligent machine control, characterizing a manufacturing process or improving product data exchange, to the accurate measurement of an artifact's dimensions.

NIST's Information Technology Laboratory responds to industry and user needs for objective, neutral tests for information technology. These are enabling tools that help companies produce the next generation of products and services, and that help industries and individuals use these complex products and services. ITL works with industry, research and government organizations to develop and demonstrate tests, test methods, reference data, proof of concept implementations and other infrastructural technologies. Program activities include: high performance computing and communications systems; emerging network technologies; access to, exchange, and retrieval of complex information; computational and statistical methods; information security; and testing tools and methods to improve the quality of software.

NIST's Building and Fire Research Laboratory provides technical leadership and participates in developing the measurement and standards infrastructure related to materials critical to U.S. industry, academia, government, and the public. Building and Fire Research programs at NIST cover a full range of materials issues from design to processing to performance. Separate research initiatives address concrete, coating, earthquake resistance of structures, fire science and engineering, the theory and modeling of materials, and materials reliability. Through laboratory-organized consortia and one-on-one collaborations, BFRL's scientists and engineers work closely with industrial researchers, manufacturers of high-technology products, and the major users of advanced materials.

NIST's Electronics and Electrical Engineering Laboratory strives to be the world's best source of fundamental and industrial-reference measurement methods and physical standards for electrotechnology. To be a world-class resource for semiconductor measurements, data, models, and standards focused on enhancing U.S. technological competitiveness in the world market, research is conducted in semiconductor materials, processing, devices, and integrated circuits to provide, through both experimental and theoretical work, the necessary basis for understanding measurement-related requirements in semiconductor technology. To provide the world's most technically advanced and fundamentally sound basis for all electrical measurements in the United States, research projects include maintaining and disseminating the national electrical standards, developing the measurement methods and services needed to support electrical materials, components, instruments, and systems used for the generation, transmission, and application of conducted electrical power, and related activities in support of the electronics industry including research on video technology and electronic product data exchange.

SURF students will have the opportunity to work one-on-one with our nation's top scientists and engineers. it is anticipated that successful SURF students will move from a position of reliance on guidance from their research advisors to one of research independence during the twelve-week period. One goal of this partnership is to provide opportunities for our nation's next generation of scientists and engineers to engage in world-class scientific research at NIST, especially in ground-breaking areas of emerging technologies. This carries with it the hope of motivating individuals to pursue a Ph.D. in physics, materials science, engineering, mathematics, or computer science, and to consider research careers. SURFing the Physics Laboratory, SURFing the Materials Science and Engineering Laboratory, SURFing the Manufacturing Engineering Laboratory, SURFing the Information Technology Laboratory, SURFing the Building and Fire Research Laboratory, and SURFing the Electronics and Electrical Engineering Laboratory will help to forge partnerships with NSF and with post-secondary institutions that demonstrate strong, hands-on undergraduate science curricula, especially those with a demonstrated commitment to the education of women, minorities, and students with disabilities.

Eligibility: For the PL, MSEL, MEL, ITL, BFRL, AND EEEL SURF Programs, colleges and universities in the United States and its territories with degree granting programs in materials science, chemistry, engineering, computer science, mathematics, or physics. Participating students must be U.S. citizens or permanent U.S. residents.

Funding Availability: For the PL SURF Program, the NIST Physics Laboratory will commit approximately $50,000 to support these cooperative agreements. The NIST Physics Laboratory's REU Program is anticipating renewal of funding by the NSF at the level of $70,000 per year. The anticipated direct costs for subsistence, travel, lodging, and conference attendance for twenty-five students is about $150,000. The actual number of awards made under this announcement will depend on the level of cost sharing by academic partners.

For the MSEL SURF Program, the NIST Materials Science and Engineering Laboratory anticipates receiving funding as a NSF REU Program at the level of $50,000 per year. For the MEL SURF Program, the NIST Manufacturing Engineering Laboratory anticipates receiving funding as a NSF REU Program at the level of $52,000 per year. For the ITL SURF Program, the NIST Information Technology Laboratory anticipates receiving funding as a NSF REU Program at the level of $50,000 per year. For the BFRL SURF Program, the NIST Building and Fire Laboratory anticipates receiving funding as a NSF REU Program at the level of $50,000 per year. for the EEEL SURF Program, the NIST Electronics and Electrical Engineering Laboratory anticipates receiving funding as a NSF REU Program at the level of $50,000 per year. It is anticipated that the funding for the MSEL, MEL, ITLBFRL, and EEEL SURF Programs will provide for the costs of subsistence, travel and lodging, and the conference attendance of eight students for each program. The actual number of awards made under this announcement will depend on the level of cost sharing by academic partners.

For all SURF Programs described in this notice, it is expected that individual awards to institutions will range from approximately $3,000 to $70,000.

Proposal Review Process and Evaluation Criteria: The PL, MSEL, MEL, ITL, BFRL, and EEEL SURF Programs conduct an initial screening of all proposals received by the deadline for incomplete or non-responsive applications, which will be returned to the applicants. All proposals will then be reviewed and ranked by a panel of three NIST scientists appointed by the Program Directors on the basis of the evaluation criteria. Proposals should include the following:

(A) Student Information:

(1) student application information cover sheet:

(2) official transcript for each student nominated for participation (students must have a recommended G.P.A. of 3.0 or better, out of a possible 4.0);

(3) a personal statement from each student and statement of commitment to participate in the 2001 SURF program, including a description of the student's prioritized research interests;

(4) a resume for each student; and

(5) two letters of recommendation for each student.

(B) Information About the Applicant Institution:

(1) description of the institution's education and research philosophy, faculty interests, on-campus research program(s) and opportunities, and overlapping research interests of NIST and the institution; and

(2) a statement addressing issues of academic credit and cost sharing.

For the PL, MSEL, MEL, ITL, BFRL, and EEEL SURF Programs, the evaluation criteria are:

Evaluation of Student's Academic Ability and Commitment to Program Goals (70%): Includes, but is not limited to, evalution of the following completed course work; expressed research interest; prior research experience, grade point average in courses relevant to program, career plans, honors and activities.

Evaluation of Applicant Institution's Commitment to Program Goals (30%): Includes, but is not limited to, evaluation of the following: institution's focus on AMO physics, materials science, manufacturing research and all of its components, including but not limited to engineering, computer science, physics, electrical engineering, and mathematics; overlap between research interests of the institution and NIST; emphasis on undergraduate hands-on research; undergraduate participation in research conferences/programs; on-campus research facilities; part participation by students/institution in such programs; and commitment to educate women, minorities, and persons with disabilities. In the spirit of a true partnership, successful applicant institutions will be encouraged to contribute some partial support to the program. A suggested level of participation would be: to directly cover (partially or entirely) student travel (one round trip common carrier) or lodging costs (approximately $2,200); total coverage of indirect costs and/or fringe benefits (NIST will not authorize funds for indirect costs of fringe benefits); a stated intent to support the participating student(s) at a research conference; and/or awarding of academic credit for the student research.

In recommending applications for funding, the program's selecting official will take into consideration the results of the panel's evaluations, including rank, the program objectives of the NIST laboratories as described above, and the selecting official's judgment as to which applications, when the slate is taken as a whole, are likely to best further the goals of the SURF Program. The level of cost sharing will not be considered in the award decision. The final approval of selected applications and award of cooperative agreements will be made by the NIST Grants Officer based on compliance with application requirements as published in this notice, compliance with applicable legal and regulatory requirements, and whether the recommended applicants appear to be responsible. Applicants may be asked to modify objectives, work plans, or budgets and provide supplemental information required by the agency prior to award. The decision of the Grants Officer is final.

Award Period: For the PL, MSEL, MEL, ITL, BFRL, and EEEL SURF Programs these programs are anticipated to run between May 21 through August 10, 2001; adjustments may be made to accommodate specific academic schedules (e.g., a limited number of 10-week cooperative agreements).

Matching Requirements: The PL, MSEL, MEL, ITL, BFRL, and EEEL SURF Programs encourage, but do not require, cost sharing.

Application Kit: For the PL, MSEL, MEL, ITL, BFRL, and EEEL SURF Programs, an application kit, containing all required forms and certifications, may be obtained by contacting Ms. Anita Sweigert, (301) 975-4200; websites for each program's application kit may be accessed through the following website: http://www.surf.nist.gov.

MSEL Grants Program

Dates: The MSEL Grants Program proposals must be received no later than the close of business September 30, 2001. Proposals received after June 30, 2001 will continue to be processed and considered for funding but may be funded in the next fiscal year, subject to the availability of funds. Each applicant must submit one signed original and two copies of each proposal along with a Grant Application. (Standard Form 424 REV. 7/97 and other required forms).

Addresses: For the MSEL Grants Program, submit one signed original and two copies of the proposal, clearly marked to identify the field of research to: Materials Science and Engineering Laboratory, Attn: Ms. Marlene Taylor, National Institute of Standards and Technology, 100 Bureau Drive, Stop 8501, Building 223, Room A305, Gaithersburg, Maryland 20899-8501, Tel: (301) 975-5653, E-mail: marlene.taylor@nist.gov.

Authority: The authority for the MSEL Grants Program is as follows: As authorized under 15 U.S.C. 272(b) and (c), the MSEL conducts a basic and applied research program directly and through grants and cooperative agreements to eligible recipients.

Program Description and Objectives: All proposals submitted to the MSEL Grants Program must be in accordance with the program objectives listed below. The appropriate Program Manager for each field of research may be contacted for clarification of the program objectives.

I. Ceramics Division, 852_The primary objective is to supplement division activities in the area of ceramic processing, tribology, composites, machining, interfacial chemistry, and microstructural analysis. The contact person for this division is: Dr. Ronald Munro and he may be reached at (301) 975-6127 or by e-mail at ronald.munro@nist.gov.

II. Polymers Division, 854_The primary objective is to support division programs in electronic materials, biomaterials, multiphase materials and processing characterization through participation in research on metrology, synthesis, processing and characterization of structure, mechanical, thermal and electrical properties. The contact person for this division is: Dr. Bruno Fanconi and he may be reached at (301) 975-6769 or by e-mail at bruno.fanconi@nist.gov.

III. Metallurgy Division, 855_The primary objective is to develop techniques to predict, measure and control transformations, phases, microstructure and kinetic processes as well as mechanical, physical and chemical properties in metals and their alloys. The contact person for this division is: Dr. Robert Schaefer and he may be reached at (301) 975-5961 or by e-mail at robert.schaefer@nist.gov.

IV. NIST Center for Neutron Research, 856_The primary objective is to develop high resolution cold and thermal neutron scattering research approaches and related physics, chemistry, macromolecular and materials applications. The contact person for this division is: Dr. John J. Rush and he may be reached at (301) 975-6231 or by e-mail at john.rush@nist.gov.

Eligibility: The MSEL Grants Program will be open to institutions of higher education; hospitals; non-profit organizations; commercial organizations; state, local, and Indian tribal governments; foreign governments; organizations under the jurisdiction of foreign governments; and international organizations.

Funding Availability: In fiscal year 2001, the MSEL Grants Program anticipates funding of approximately $2,500,000, including new awards and continuing projects. Most grants and cooperative agreements are expected to be in the $25,000 to $100,000 per year range.

Proposal Review Process and Evaluation Criteria: For the MSEL Grants Program proposals will be reviewed in a two-step process. First, at least three independent, objective individuals knowledgeable about the particular scientific area described in the section above that the proposal addresses will conduct a technical review of proposals, as they are received on a rolling basis, based on the evaluation criteria. Second, the Division Chief or Center Director will make application selections. In making application selections, the Division Chief or Center Director will take into consideration the results of the reviewer's evaluations, the compatibility of the applicant's proposal with the program objectives of the particular division or center that the proposal addresses, and the Division Chief or Center Director's judgment as to whether the application is likely to further the objectives of the MSEL Grants Program. These objectives are described above in the “Program Objectives” section. The final approval of selected applications and award of financial assistance will be made by the NIST Grants Officer based on compliance with application requirements as published in this notice, compliance with applicable legal and regulatory requirements, and whether the recommended applicants appear to be responsible. Applicants may be asked to modify objectives, work plans, or budgets and provide supplemental information required by the agency prior to award. The decision of the Grants Officer is final.

For the MSEL Grants Program, the evaluation criteria the technical reviewers will use in evaluating the proposals are as follows:

1. Rationality. Reviewers will consider the coherence of the applicant's approach and the extent to which the proposal effectively addresses scientific and technical issues.

2. Qualification of Technical Personnel. Reviewers will consider the professional accomplishments, skills, and training of the proposed personnel to perform the work in the project.

3. Resources Availability. Reviewers will consider the extent to which the proposer has access to the necessary NIST or other facilities and overall support to accomplish project objectives.

4. Technical Merit of Contribution. Reviewers will consider the potential technical effectiveness of the proposal and the value it would contribute to the field of materials science and engineering and neutron research.

Each of these factors will be given equal weight in the evaluation process.

Award Period. For the MSEL Grants Program, proposals will be considered for research projects from one to three years. When a proposal for a multi-year award is approved, funding will generally be provided for only the first year of the program. If an application is selected for funding, NIST has no obligation to provide any additional funding in connection with that award. Continuation of an award to increase funding or extend the period of performance is at the total discretion of NIST. Funding for each subsequent year of a multi-year proposal will be contingent upon satisfactory progress, continued relevance to the mission of the MSEL program, and the availability of funds. The multi-year awards must have scopes of work that can be easily separated into annual increments of meaningful work that represent solid accomplishments if prospective funding is not made available to the applicant, (i.e., the scopes of work for each funding period must produce identifiable and meaningful results in and of themselves).

Matching Requirements: The MSEL Grants Program does not require any matching funds.

Application Kit: For the MSEL Grants Program, an application kit, containing all required application forms and certifications is available by contacting Ms. Marlene Taylor, (303) 975-5653.

Fire Research Grants Program

Dates: The Fire Research Grants Program proposals must be received no later than the close of business September 30, 2001. Proposals received after June 30, 2001 will continue to be processed and considered for funding but may be funded in the next fiscal year, subject to the availability of funds.

Addresses: For the Fire Research Grants Program submit one signed original and two copies of the proposal to: Building and Fire Research Laboratory (BFRL), Attn.: Ms. Sonya Parham, National Institute of Standards and Technology, 100 Bureau Drive, Stop 8602, Gaithersburg, Maryland 20899-8602, Tel: (301) 975-6854, E-mail: sonya.parham@nist.gov, Website: http://www.bfrl.nist.gov.

Authority: As authorized by 15 U.S.C. 278f, the NIST Building and Fire Research Laboratory conducts directly and through grants and cooperative agreements, a basic and applied fire research program.

Program Description and Objectives: The program description and objectives for the Fire Research Grants Program are as follows:

A. Fire Dynamics: To develop understanding and predictive methods for dynamic fire phenomena to advance fire science and engineering practice. To perform research to understand the heat and mass transfer processes occurring in fires in order to improve predictions of the growth, spread, suppression, and emissions from fires of all scales. Experiments and metrology are developed and used to develop, support, and verify advanced computer simulations of fire phenomena, fire hazards, fire protection, and fire fighting.

B. Large Fire Research: To develop understanding of the behavior, prevention, and control of large fires through measurement, prediction and demonstration. This includes new understanding and technology related to: fire suppression and control, fire fighting operations, burning characteristics of assemblies, thermal and chemical emissions, smoke transport processes; fire modeling; fire investigations; fire suppression agents; use of combustion for environmental cleanup; and field measurement of both structural and unconfined fires. To perform research the results of which are used in fire fighting, fire protection, fire investigation, and construction to reduce the impact of fire on people, property, and the environment.

C. Fire Safety Systems: To perform research and development and demonstrate the advanced fire safety systems that utilize deterministic fire modeling. These systems are intended to enhance the quality, reliability, and accuracy of data and predictions available to quantify fire events with applications to buildings, fire protection systems, transportation systems and vehicles, training, fire fighting, fire investigations, and codes and standards. To perform research to advance the capabilities of fire models and their applications, including: developing methods to assess fire hazard and risk; creating advanced, usable models for the calculation of building fires and their effect on the environment and structure; integrating fire models with building control and fire alarm systems, developing advanced information systems for fire fighters; developing a protocol for determining the accuracy of algorithms and comprehensive models; developing data bases to facilitate use of fire models; and advancing the concepts of performance-based engineering.

D. Advanced Fire Measurements: To produce the scientific basis and robust measurement methods for characterizing fires and their effluents at full- and reduced-scales. This includes discrete point, volume-integrated, and time- and space-resolved measurements for such properties as temperature, smoke density, chemical species, and flow velocity. Laboratory and computational research are also performed to understand the underpinning fire phenomena to ensure the soundness of the developed measurement techniques.

E. Materials Fire Research: To perform research enabling the confident development by industry of new, less-flammable materials and products. This capability is based on understanding fundamentally the mechanisms that control the ignition, flame spread and burning rate of materials, as well as and the chemical and physical characteristics that affect these aspects of flammability. This includes: developing methods of measuring the response of a material to fire conditions that enable assured prediction of the full-scale performance of the final product; developing computational molecular dynamics and other mechanistic approaches to understand flame retardant mechanisms and the effects of polymer chemical structure on flammability; characterizing the burning rates of charring and non-charring polymers and composites; and delineating and modeling the enthalpy and mass transfer mechanisms of materials combustion.

F. Fire Sensing and Extinguishment: To develop understanding, metrology and predictive methods to enable high-performance fire sensing and extinguishment systems; and devising new approaches to minimize the impact of unwanted fires and the suppression process. This includes: performing research for the identification and in-situ measurement of the symptoms of pending and nascent fires and the consequences of suppression; devising or adapting monitors for these variables and the intelligence for timely interpretation of the data; developing methods to characterize the performance of new approaches to fire detection and suppression; determining mechanisms for deflagration and detonation suppression by advanced agents and principles for their optimal use; and modeling the extinguishment process.

Eligibility: The Fire Research Grants Program will be open to institutions of higher education; hospitals; non-profit organizations; commercial organizations; state, local, and Indian tribal governments; foreign governments; organizations under the jurisdiction of foreign governments; and international organizations. Immediate family members of NIST Building and Fire Research Laboratory (BFRL) staff are ineligible for support from the Fire Research Grants Program.

Funding Availability: For the Fire Research Grants Program, the annual budget is approximately $700 thousand. Because of commitments for the support of multi-year projects, only a portion of the budget is available to initiate new programs in any one year. Most grants and cooperative agreements are in the $10,000 to $100,000 per year range.

Proposal Review Process and Evaluation Criteria: For the Fire Research Grants Program, all proposals are assigned, as received on a rolling basis, to the appropriate group leader of the six programs listed above in program description and objectives. Proposals are evaluated for technical merit based on the evaluation criteria by at least three reviewers chosen from NIST professionals, technical experts from other interested government agencies, and experts from the fire research community at large. Both the technical value of the proposal and the relationship of the work proposed to the needs of the specific program are taken into consideration in the group leader's recommendation to the Division Chief. In making the final application selections, the Division Chief will take into consideration the results of the evaluations, the scores of the reviewers, the group leader's recommendation, and the Division Chief's judgment as to whether the application is likely to further the objectives of the Fire Research Grants Program, as described above. The final approval of selected applications and award of financial assistance will be made by the NIST Grants Officer based on compliance with application requirements as published in this notice, compliance with applicable legal and regulatory requirements, and whether the recommended applicants appear to be responsible. Applicants may be asked to modify objectives, work plans, or budgets and provide supplemental information required by the agency prior to award. The decision of the Grants Officer is final. Applicants should allow up to 90 days processing time.

For the Fire Research Grants Program, the technical evaluation criteria includes the following:

a. Technical quality of the research. Reviewers will assess the rationality, innovation and imagination of the proposal and the fit to NIST's in-house fire research program. (0-35 points)

b. Potential impact of the results. Reviewers will assess the potential impact and the technical application of the results to our in-house programs and the fire safety community. (0-25 points)

c. Staff and institution capability to do the work. Reviewers will evaluate the quality of the facilities and experience of the staff to assess the likelihood of achieving the objective of the proposal. (0-20 points)

d. Match of budget to proposed work. Reviewers will assess the budget against the proposed work to ascertain the reasonableness of the request. (0-20 points)

Award Period: For the Fire Research Grants Program, proposals will be considered for research projects from one to three years. When a proposal for a multi-year project is approved, funding will initially be provided for only the first year of the program. If an application is selected for funding, DoC has no obligation to provide any additional future funding in connection with that award. Funding for each subsequent year of a multi-year proposal will be contingent on satisfactory progress, continuing relevance to the mission of the NIST Fire Research program, and the availability of funds.

Matching Requirements: The Fire Research Grants Program does not require any matching funds.

Application Kit: For the Fire Research Grants Program, an application kit, containing all required application forms and certifications is available by contacting Ms. Sonya Parham, (301) 975-6854, website: http://www.bfrl.nist.gov.

Physics Laboratory Grants Program

Dates: The Physics Laboratory Grants Program proposals must be received no later than the close of business September 30, 2001. Proposals received after June 30, 2001 will continue to be processed and considered for funding but may be funded in the next fiscal year, subject to the availability of funds.

Addresses: For the Physics Laboratory Grant Program applicants are requested to submit one signed original and two copies of the proposal clearly marked to identify the field of research to: Attn. Ms. Anita Sweigert, National Institute of Standards and Technology, 100 Bureau Drive, Stop 8400, Gaithersburg, MD. 20899-8400, Tel (301) 975-4200, E-Mail: anita.sweigert@nist.gov.

Authority: As authorized under 15 U.S.C. 272 (b) and (c), the Physics Laboratory conducts a basic and applied research program directly and through grants and cooperative agreements to eligible recipients.

Program Description and Objectives: All proposals submitted to the Physics Laboratory Grants Program must be in accordance with the program objectives listed below. The appropriate Program Manager for each field of research may be contacted for clarification of the program objectives.

I. Electron and Optical Physics Division, 841—The primary objective is to supplement division activities in characterization of nanometer-scale electronic and magnetic structures, characterization of EUV optical components to support semiconductor lithography and ultraviolent radiometric metrology. The contact person for this division is: Dr. Charles W. Clark and he may be reached at (301) 975-3709.

II. Atomic Physics Division, 842—The primary objective is to support division programs aimed at determining basic atomic properties and developing new metrology techniques in atomic spectroscopy, quantum processes, plasma radiation, laser cooling and trapping, and quantum metrology. The contact person for this division is: Dr. Wolfgang L. Wiese and he may be reached at (301) 975-3200.

III. Optical Technology Division, 844—The primary objective is to develop improve and maintain national standards for radiation thermometry, spectroradiometry, photometry, and spectrophotometry as well as conduct basic theoretical and experimental research on the photophysical and photochemical properties of materials, in radiometric and spectroscopic techniques and instrumentation, and in the application of optical technologies. The contact person for this division is: Dr. Albert C. Parr and he may be reached at (301) 975-2316.

IV. Ionizing Radiation Division, 846—The primary objective is to provide primary standards and measurement methods and technology to support the division's work in meeting national needs in radiation interactions and dosimetry, neutron interactions, dosimetry and radioactivity including both theoretical/experimental and applied research programs. The contact person for this division is: Dr. Bert M. Coursey and he may be reached at (301) 975-5584.

V. Time and Frequency Division, 847—The primary objective is to supplement division basic and applied research programs in the areas of phase noise measurements, network synchronization, ion storage, atomic standards and optical frequency measurements in support of future standards, dissemination services, and measurement methods. The contact person for this division is: Dr. Donald B. Sullivan and he may be reached at (303) 497-3772.

Eligibility: The Physics Laboratory Grants Program will be open to institutions of higher education; hospitals; non-profit organizations; commercial organizations; state, local, and Indian tribal governments; foreign governments; organizations under the jurisdiction of foreign governments; and international organizations.

Funding Availability: In fiscal year 2001, the Physics Laboratory anticipates funding of approximately $1,400,000, which may be increased to approximately $2,000,000 should additional funding become available, including new awards and continuing projects. Individual awards are expected to range from approximately $5,000 to $250,000.

Proposal Review Process and Evaluation Criteria: For the Physics Laboratory Grants Program, proposals will be reviewed in a two-step process. First, at least three independent, objective individuals knowledgeable about the particular scientific area described in the section above that the proposal addresses will conduct a technical review of each proposal, based on the evaluation criteria described below. Reviews will be conducted on a monthly basis, and all proposals received during the month will be ranked based on the reviewers' scores. Second, the Division Chief will make final application selections. In making application selections, the Division Chief will take into consideration the results of the reviewers' evaluations, the compatibility of the applicant's proposal with the program objectives of the particular division or center that the proposal addresses, and the Division Chief's judgment as to whether the application is likely to further the objectives of the Physics Laboratory Grants Program. These objectives are described above in the “Program Objectives” section. The final approval of selected applications and award of financial assistance will be made by the NIST Grants Officer based on compliance with application requirements as published in this notice, compliance with applicable legal and regulatory requirements, and whether the recommended applicants appear to be responsible. Applicants may be asked to modify objectives, work plans, or budgets and provide supplemental information required by the agency prior to award. The decisions of the Grants Officer are final.

For the Physics Laboratory Grants Program, the evaluation criteria the technical reviewers will use in evaluating the proposals are as follows:

1. Rationality. Reviewers will consider the coherence of the applicant's approach and the extent to which the proposal effectively addresses scientific and technical issues.

2. Qualifications of Technical Personnel. Reviewers will consider the professional accomplishments, skills,and training of the proposed personnel to perform the work in the project.

3. Resources Availability. Reviewers will consider the extent to which the proposer has access to the necessary NIST or other facilities and overall support to accomplish project objectives.

4. Technical Merit of Contribution. Reviewers will consider the potential technical effectiveness of the proposal and the value it would contribute to the field of physics.

Each of these factors will be given equal weight in the evaluation process.

Award Period: For the Physics Laboratory Grant Program, proposals will be considered for research projects from one to three years. When a proposal for a multi-year project is approved, funding will generally be provided for only the first year of the program. If an application is selected for funding, NIST has no obligation to provide any additional funding in connection with that award. Continuation of award to increase funding or extend the period of performance is at the total discretion of NIST. Funding for each subsequent year of a multi-year proposal will be contingent upon satisfactory progress, continued relevance to the mission of the Physics Laboratory program, and the availability of funds. The multi-year awards must have scopes of work that can be easily separated into annual increments of meaningful work that represent solid accomplishments if prospective funding is not made available to the applicant, (i.e., the scopes of work for each funding period must produce the identifiable and meaningful results in and of themselves).

Matching Requirements: The Physics Laboratory Grants Program does not require any matching funds.

Application Kit: For the Physics Laboratory Grants Program, an application kit, containing all required application forms and certifications is available by contacting Ms. Anita Sweigert, (301) 975-4201.

Chemical Science and Technology Laboratory Grants Program

Dates: The Chemical Science and Technology Laboratory Grant Program proposals must be received no later than the close of business September 30, 2001. Proposals received after June 30, 2001 will continue to be processed and considered for funding but may be funded in the next fiscal year, subject to the availability of funds.

Addresses: For the Chemical Science and Technology Laboratory Grant Program applicants are requested to submit one signed original and two copies of the proposal clearly marked to identify the field of research to: Attn. Dr. William F. Koch, National Institute of Standards and Technology, 100 Bureau Drive, Stop 8300, Gaithersburg, MD. 20899-8300, Tel (301) 975-8301, E-Mail: william.koch@nist.gov.

Authority: As authorized under 15 U.S.C. 272(b) and (c), the Chemical Science and Technology Laboratory conducts a basic and applied research program directly and through grants and cooperative agreements to eligible recipients.

Program Description and Objectives: All proposals submitted to the Chemical Science and Technology Laboratory Grants Program must be in accordance with the program objectives listed below. The appropriate Program Manager for each field of research may be contacted for clarification of the program objectives.

I. Biotechnology Division, 831—The primary objective is to advance the commercialization of biotechnology by developing the scientific/engineering technical base, reliable measurements, standards, data and models to enable U.S. industry to quickly and economically produce biochemical products with appropriate quality control. The contact person for this division is: Dr. Gary L. Gilliland, and he may be reached at (301) 975-2629.

II. Process Measurement Division, 836—The primary objective is to develop and provide measurement standards and services, measurement techniques, recommended practices, sensing technology, instrumentation, and mathematical models required for analysis, control, and optimization of industrial processes. The Division's research seeks fundamental understanding of, and generates key data pertinent to, chemical process technology. These efforts include the development and validation of data-predictive computational tools and correlation's, computer simulations of processing operations, and provision of requisite chemical, physical, and engineering data. The contact person for this division is: Dr. James R. Whetstone, and he may be reached at (301) 975-2609.

III. Surface and Microanalysis Science Division, 837—The primary objective is to promote U.S. economic growth, safety, health, and environmental quality by working with industry, other government agencies, and standards organizations to develop and apply key technologies, measurements, and standards for spatially and temporally resolved chemical characterization. The contact person for this division is: Dr. Richard R. Cavanagh, and he may be reached at (301) 975-2368.

IV. Physical and Chemical Properties Division, 838—The primary objective is to be the Nation's reference laboratory for measurements, standards, data, and models for, the thermophysical and thermochemical properties of gases, liquids, and solids—both pure materials and mixtures. The rates and mechanisms of chemical reactions in the gas and liquid phases, fluid-based physical processes and systems, including separations, low-temperature refrigeration, and low-temperature heat transfer and flow. The contact person for this division is: Dr. Mickey Haynes, and he may be reached at (303) 497-3247.

V. Analytical Chemistry Division, 839—The primary objective is to serve as the Nation's reference laboratory for chemical measurements and standards to enhance U.S. industry's productivity and competitiveness, assure equity in trade, and provide quality assurance for chemical measurements used for assessing and improving public health, safety, and the environment. The contact person for this division is: Dr. Willie E. May, and he may be reached at (301) 975-3108.

Eligibility: The Chemical Science and Technology Laboratory Grants Program will be open to institutions of higher education; hospitals; non-profit organizations; commercial organizations; state, local, and Indian tribal governments; foreign governments; organizations under the jurisdiction of foreign governments; and international organizations.

Funding Availability: In fiscal year 2001, the Chemical Science and Technology Laboratory anticipates funding of approximately $1,000,000. Individual awards are expected to range from approximately $5,000 to $100,000.

Proposal Review Process and Evaluation Criteria: For the Chemical Science and Technology Laboratory Grants Program, proposals will be reviewed in a two-step process. First, at least three independent, objective individuals knowledgeable about the particular scientific area described in the section above that the proposal addresses will conduct a technical review of each proposal, based on the evaluation criteria described below. Reviews will be conducted on a monthly basis, and all proposals received during the month will be ranked based on the reviewers' scores. Second, the Division Chief will make application selections. In making application selections, the Division Chief will take into consideration the results of the reviewers' evaluations, the compatibility of the applicants' proposal with the program objectives of the particular division or center that the proposal addresses, and the Division Chief's judgment as to whether the application is likely to further the objectives of the Chemical Science and Technology Laboratory Grants Program. These objectives are described above in the “Program Objectives” section. The final approval of selected applications and award of financial assistance will be made by the NIST Grants Officer based on compliance with application requirements as published in this notice, compliance with applicable legal and regulatory requirements, and whether the recommended applicants appear to be responsible. Applicants may be asked to modify objectives, work plans, or budgets and provide supplemental information required by the agency prior to award. The decisions of the Grants Officer are final.

For the Chemical Science and Technology Laboratory Grants Program, the evaluation criteria the technical reviewers will use in evaluating the proposals are as follows:

1. Rationality. Reviewers will consider the coherence of the applicant's approach and the extent to which the proposal effectively addresses scientific and technical issues.

2. Qualifications of Technical Personnel. Reviewers will consider the professional accomplishments, skills, and training of the proposed personnel to perform the work in the project.

3. Resources Availability. Reviewers will consider the extent to which the proposer has access to the necessary NIST or other facilities and overall support to accomplish project objectives.

4. Technical Merit of Contribution. Reviewers will consider the potential technical effectiveness of the proposal and the value it would contribute to the field of chemistry.

Each of these factors will be given equal weight in the evaluation process.

Award Period: For the Chemical Science and Technology Laboratory Grant Program, proposals will be considered for research projects from one to three years. When a proposal for a multi-year award is approved, funding will generally be provided for only the first year of the program. If an application is selected for funding, NIST has no obligation to provide any additional funding in connection with that award. Continuation of an award to increase funding or extend the period of performance is at the total discretion of NIST. Funding for each subsequent year of a multi-year proposal will be contingent upon satisfactory progress continued relevance to the mission of the Chemical Science and Technology Laboratory program, and the availability of funds. The multi-year awards must have scopes of work that can be easily separated into annual increments of meaningful work that represent solid accomplishments if prospective funding is not made available to the applicant (i.e. the scopes of work for each funding period must produce identifiable and meaningful results in and of themselves).

Matching Requirements: The Chemical Science and Technology Laboratory Grants Program does not require any matching funds.

Contact: For information on the Chemical Science and Technology Laboratory Grants Program, please contact Dr. William Koch, (301) 975-8301.

Manufacturing Engineering Laboratory (MEL) Grants Program

Dates: The MEL Grants Program proposals must be received no later than the close of business September 30, 2001. Proposals received after June 30, 2001 will continue to be processed and considered for funding but may be funded in the next fiscal year, subject to the availability of funds. Each applicant must submit one signed original and two copies of each proposal along with a Grant Application (Standard Form 424 REV. 7/97 and other required forms).

Addresses: For the MEL Grants Program, submit one signed original and two copies of the proposal, clearly marked to identify the field of research, to: Manufacturing Engineering Laboratory, Attn: Mrs. Barbara Horner, National Institute of Standards and Technology, 100 Bureau Drive, Stop 8200, Building 220, Room B322, Gaithersburg, Maryland 20899-8200, Tel: (301) 975-3400, E-mail: barbara.horner@nist.gov.

Authority: As authorized under 15 U.S.C. 272(b) and (c), the MEL conducts a basic and applied research program directly and through grants and cooperative agreements to eligible recipients.

Program Description and Objectives: All proposals submitted must be in accordance with the program objectives listed below. The appropriate Program Manager for each field of research may be contacted for clarification of the program objectives.

I. Precision Engineering Division, 821—The primary objective is to support laboratory programs in the areas of Engineering Metrology, Large-Scale Metrology, Nanometer-Scale Metrology, and Surface Metrology. The contact person for this division is: Dr. Dennis Swyt, and he may be reached at (301) 975-3463; dennis.swyt@nist.gov.

II. Manufacturing Metrology Division, 822—The primary objective is to support laboratory programs in Machining Systems; Mechanical Metrology; Advanced Optics Metrology; and Sensors, Interfaces, Predictive Process Engineering; and Networks for Metrology and Manufacturing. The contact person for this division is: Dr. E. Clayton Teague, and he may be reached at (301) 975-6600; clayton.teague@nist.gov.

III. Intelligent Systems Division, 823—The primary objective is to support laboratory programs in Intelligent Open Architecture Control of Manufacturing Systems, Intelligent Controls of Mobility Systems, and Intelligent Systems. The contact person for this division is: Dr. John M. Evans, and he may be reached at (301) 975-3418; j.evans@nist.gov.

IV. Manufacturing Systems Integration Division, 826—The primary objective is to support laboratory programs in Information Technology Metrology for Manufacturing, Manufacturing Enterprise Engineering, Manufacturing Simulation and Visualization, Product Engineering, and Nano-manufacturing. The contact person for this division is: Dr. Steven R. Ray, and he may be reached at (301) 975-3508; steven.ray@nist.gov.

Eligibility: The MEL Grants Program will be open to institutions of higher education; hospitals; non-profit organizations; commercial organizations; state, local, and Indian tribal governments; foreign governments; organizations under the jurisdiction of foreign governments; and international organizations.

Funding Availability: In fiscal year 2001, MEL Grants Program anticipates funding of approximately $750,000, including new awards and continuing projects. Individual awards are expected to range from approximately $25,000 to $300,000.

Proposal Preview and Evaluation Criteria: The MEL Grants Program will conduct an initial screening for incomplete or non-responsive applications, which will be returned to the applicants. Proposals will then be reviewed in a two-step process. First, at least three independent, objective individuals knowledgeable about the particular scientific area described in the section above that the proposal addresses will conduct a technical review of proposals, based on the evaluation criteria described below. Reviews will be conducted no less than once per quarter, and all proposals since the last review session will be ranked based on the reviewers' scores. Second, the Division Chief or Laboratory Director will make application selections. In making application selections, the Division Chief or Laboratory Director will take into consideration the results of the reviewers' evaluations, the compatibility of the applicant's proposal with the program objectives of the particular division that the proposal addresses, and the Division Chief's or Laboratory Director's judgment as to whether the application is likely to further the objectives of the MEL Grants Program. These objectives are described above in the Program Objectives. The final approval of selected applications and award of financial assistance will be made by the NIST Grants Officer based on compliance with application requirements as published in this notice, compliance with applicable legal and regulatory requirements, and whether the recommended applicants appear to be responsible. Applicants may be asked to modify objectives, work plans, or budgets and provide supplemental information required by the agency prior to award. The decision of the Grants Officer is final.

For the MEL Grants Program, the evaluation criteria the technical reviewers will use in evaluating the proposals are as follows:

1. Rationality. Reviewers will consider the coherence of the applicant's approach and the extent to which the proposal effectively addresses scientific and technical issues.

2. Technical Merit of Contribution. Reviewers will consider the potential technical effectiveness of the proposal and the value it would contribute to the field of manufacturing engineering and metrology research.

3. Qualifications of Technical Personnel. Reviewers will consider the professional accomplishments, skills, and training of the proposed personnel to perform the work in the project.

4. Resources Availability. Reviewers will consider the extent to which the proposer has access to the necessary NIST or other facilities and overall support to accomplish project objectives.

Each of these factors will be given equal weight in the evaluation process.

Award Period: For the MEL Grants Program, proposals will be considered for research projects from one to three years. When a proposal for a multi-year award is approved, funding will generally be provided for only the first year of the program. If an application is selected for funding, NIST has no obligation to provide any additional funding in connection with that award. Continuation of an award to increase funding or extend the period of performance is at the total discretion of NIST. Funding for each subsequent year of a multi-year proposal will be contingent upon satisfactory progress, continued relevance to the mission of the MEL program, and the availability of funds. The multi-year awards must have scopes of work that can be easily separated into annual increments of meaningful work that represent solid accomplishments if prospective funding is not made available to the applicant, (i.e., the scopes of work for each funding period must produce identifiable and meaningful results in and of themselves).

Matching Requirements: The MEL Grants Program does not require any matching funds.

Application Kit: An application kit, containing all required application forms and certifications is available by electronic mail to: Mrs. Barbara Horner, barbara.horner@nist.gov. Alternatively, Mrs. Horner can be contacted at (301) 975-3400.

Electronics and Electrical Engineering (EEEL) Grants Program

Dates: The Electronics and Electrical Engineering Grants Program proposals must be received no later than the close of business September 30, 2001. Proposals received after June 30, 2001 will continue to be processed and considered for funding but may be funded in the next fiscal year, subject to the availability of funds.

Addresses: For the Electronics and Electrical Engineering Grants Program, submit one signed original and two copies of the proposal package to: Electronics and Electrical Engineering Laboratory, Attn.: D.J. Hamilton, National Institute of Standards and Technology, 100 Bureau Drive, Stop 8100, Gaithersburg, MD 20899-8100, Tel.: (301) 975-2227, Fax: (301) 975-4091.

Authority: As authorized by 15 U.S.C. 272(b) and (c), the NIST Electronnics and Electrical Engineering Laboratory conducts a basic and applied research program directly and through grants and cooperative agreements to eligible recipients.

Program Description and Objectives: The Electronics and Electrical Engineering Grants Program solicits proposals in support of the broad program objectives identified below.

The Electronics and Electrical Engineering Grants Program supports the formal mission of the associated Laboratory: The Electronics and Electrical Engineering Laboratory promotes U.S. economic growth by providing measurement capability of high impact focused primarily on the critical needs of the U.S. electronics and electrical industries, and their customers and suppliers.

More specifically, the Electronics and Electrical Engineering Grants Program solicits proposals to support specific programs in the areas of metrology for semiconductors (including mainstream silicon, power devices, and compound semiconductors), superconductors (including cryoelectronics and bulk superconductors), electronic instrumentation, radio-frquency technology (including microwave and millimeter-wave, antennas, and electromagnetic compatibility/interference), optoelectronics, magnetics (including bulk magnetic materials and magnetic data storage), video (including flat-panel displays), electronic commerce as applied to electronic products and devices, the transmission and distribution of electrical power, national electrical standards (fundamental, generally quantum-based physical standards), and law enforcement (clothing, communication systems, emergency equipment, investigative aids, protective equipment, security systems, vehicles, speed-measuring equipment, weapons, and analytical techniques and standard reference materials used by the public safety community).

For details on these various activities, please see the Electronics and Electrical Engineering Laboratory website at http://www.eeel.nist.gov. Note that documents describing the current programs for the five technical divisions and two offices are available through the home page.

Technical contacts for these areas are:

Semiconductors

Semiconductor Electronics Division—Division Chief: Dr. David G. Seiler; (301) 975-2054; david.seiler@nist.gov

Office of Microelectronics Programs—Director: Dr. Stephen Knight; (301) 975-4400; stephen.knight@nist.gov

Superconductors (bulk); Magnetics

Laboratory Acting Deputy Director: Dr. Alan H. Cookson; (301) 975-2220; alan. cooson@nist.gov

Superconductors (cryoelectronics); National electrical standards (Josephson array development)

Electromagneteic Technology Division—Division Chief: Dr. Richard E. Harris; (303) 497-3678; richard.harris@boulder.nist.gov

Electronic instrumentation; Video; Electronic commerce; National electrical standards (other than Josephson array development)

Electricity Division—Division Chief: Dr. Bruce F. Field; (301) 975-2400; bruce.field@nsit.gov

Radio-frequency technology

Radio-Frequency Technology Division—Division Chief: Dr. Dennis S. Friday; (303) 497-3132; Friday@boulder.nist.gov

Optoelectronics

Optoelectronics Division; Office of Optoelectronics Programs—Division Chief and Office Director: Dr. Gordon W. Day; (303) 497-5432; gwday@boulder.nist.gov

Law Enforcement

Office of Law Enforcement Standards—Director: Dr. Kathleen Higgins; (301) 975-2757; kathleen.higgins@nist.gov

Eligibility: The Electronics and Electrical Engineering Grants Program is open to institutions of higher education; hospitals; non-profit organizations; commercial organizations; state, local, and Indian tribal governments; foreign governments; organizations under the jurisdiction of foreign governments; and international organizations.

Funding Availability: Over the past three years, the Electronics and Electrical Engineering laboratory funded a total of approximately $1,000,000 in grants and cooperative agreements. The amount available each year fluctuates considerably based on programmatic needs. Individual awards are expected to range between $5,000 and $150,000.

Proposal Review Process and Evaluation Criteria: For the Electronics and Electrical Engineering Grants Program, proposals will be distributed to the appropriate Division Chief or Office Director based on technical area by one or more technical professionals familiar with the programs of the Electronics and Electrical Engineering Laboratory. The Divisions and Offices will be asked to score proposals based on the following criteria and weights:

Proposal addresses specific program or project need not met (25%)

Proposal provides evidence of applicant's expertise in relevant technical area (20%)

Proposal offers innovative approach (20%)

Proposal provides realistic schedule with defined milestones (20%)

Proposal provides adequate rationale for budget (15%)

Reviews will be conducted on a monthly basis during the first quarter, and quarterly thereafter, and all proposals received during the month or quarter will be ranked based on the reviewers' scores. Based on the reviewers' scores, recommendations of with the Division Chiefs and Office Directors, the availability of funding, and the Laboratory Director's judgment as to whether the application is likely to further the objectives of the Electronics and Electrical Engineering Grants Program, as described above, the Laboratory Director will provide recommendations to the NIST Grants Officer. The final approval of selected applications and award of financial assistance will be made by the NIST Grants Officer based on compliance with application requirements as published in this notice, compliance with applicable legal and regulatory requirements, and whether the recommended applicants appear to be responsible. Applicants may be asked to modify objectives, work plans, or budgets and provide supplemental information required by the agency prior to award. The decision of the Grants Officer is final. Applicants should allow up to 90 days processing time.

Award Period: For the Electronics and Electrical Engineering Grants Program, proposals will be considered for research projects from one to three years. When an proposal for a multi-year award is approved, funding will generally be provided for only the first year of the program. If an application is selected for funding, NIST has not obligation to provide any additional funding in connection with that award. Continuation of an award to increase funding or extend the period of performance is at the total discretion of NIST. Funding for each subsequent year of a multi-year proposal will be contingent upon progress, continued relevance to the mission of the Electronics and Electrical Engineering Grants Program, and the availability of funds. The multi-year awards must have scopes of work that can be easily separated into annual increments of meaningful work that represent solid accomplishments if prospective funding is not made available to the applicant, (i.e., the scopes of work for each funding period must produce identifiable and meaningful results in and of themselves).

Matching Requirements. The Electronics and Electrical Engineering Grants Program does not require any matching funds.

Application Kit: An application kit, containing all required application forms and certifications is available by contacting: D.J. Hamilton, (301) 975-2227.

Additional Information: The following information is applicable to all programs described above.

Funding Availability: For all Financial Assistance programs listed above, awards are contingent on the availability of funds.

Catalog of Federal Domestic Assistance Name and Number: Measurement and Engineering Research and Standards—11.609.

For Further Information Contact: All grants administration questions concerning these programs should be directed to the NIST Grants Office at (301) 975-5718.

Application Kit: The application kit includes the following:

SF 424 (Rev 7/97)—Application for Federal Assistance

SF 424A (Rev 7/97)—Budget Information—Non-Construction Programs, including a detailed budget narrative explaining the details of each budget category and the basis for the cost. If indirect costs are included in the budget, a copy of the applicant's negotiated indirect cost rate must be submitted, if available.

SF 424B (Rev 7/97)—Assurances—Non-Construction Programs

CD 511 (7/91)—Certification Regarding Debarment, Suspension, and Other Responsibility Matters; Drug-free Workplace Requirements and Lobbying

CD 512 (7/91)—Certification Regarding Debarment, Suspension, Ineligibility and Voluntary Exclusion—Lower Tier Covered Transactions and Lobbying

SF-LLL—Disclosure of Lobbying Activities

CD-346—Applicant for Funding Assistance

Paperwork Reduction Act: The Standard form 424 and other Standard Forms in the application kit are subject to the requirements of the Paperwork Reduction Act and have been approved by OMB under Control No. 0348-0043, 0348-0044, 0348-0040, and 0348-0046.

Notwithstanding any other provision of the law, no person is required to respond to, nor shall any person be subject to a penalty for failure to comply with a collection, subject to the requirements of the Paperwork Reduction Act, unless that collection of information displays a currently valid OMB Control Number.

Research Projects Involving Human Subjects, Human Tissue, Data or Recordings Involving Human Subjects: Any proposal that includes research involving human subjects, human tissue, data or recordings involving human subjects must meet the requirements of the Common Rule for the Protection of Human Subjects, codified for the Department of Commerce at 15 CFR Part 27. In addition, any proposal that includes research on these topics must be in compliance with any statutory requirements imposed upon NIH and other federal agencies regarding these topics, all regulatory policies and guidance adopted by NIH, FDA, and other federal agencies on these topics, and all Presidential statements of policy on these topics.

The NIH recently released their guidelines on the use of human pluripotent stem cells derived from human embryos in research. The NIST is currently reviewing these guidelines. Until NIST has had the opportunity to fully assess the new guidelines and develop appropriate implementing procedures, NIST will not consider proposals that involve human pluripotent stem cells derived from human embryos for funding.

On December 3, 2000, the U.S. Department of Health and Human Services (DHHS) introduced a new Federalwide Assurance of Protection of Human Subjects (FWA). The FWA covers all of an institution's Federally-supported human subjects research, and eliminates the need for other types of Assurance documents. In anticipation of the new Assurance, the Office for Human Research Protections (OHRP) has suspended processing of multiple project assurance (MPA) renewals. All existing MPAs will remain in force until further notice. OHRP will continue to accept new single project assurances (SPAs) until approximately March 1, 2001. For information about FWAs, please see the OHRP website at http://ohrp.osophs.dhhs.gov/whatsnew.htm.

In accordance with the DHHS change, NIST will continue to accept the submission of human subjects protocols that have been approved by Institutional Review Boards (IRBs) possessing a current, valid MPA from DHHS. NIST also will accept the submission of human subjects protocols that have been approved by IRBs possessing a current, valid FWA from DHHS. NIST will not issue an SPA for any IRB reviewing any human subjects protocol proposed to NIST.

Research Projects Involving Vertebrate Animals: Any proposal that includes research involving vertebrate animals must be in compliance with the National Research Council's “Guide for the Care and Use of Laboratory Animals” which can be obtained from National Academy Press, 2101 Constitution Avenue, NW., Washington, DC 20055. In addition, such proposals must meet the requirements of the Animal Welfare Act (7 U.S.C. 2131 et seq.), 9 CFR parts 1, 2, and 3, and if appropriate, 21 CFR part 58. These regulations do not apply to proposed research using pre-existing images of animals or to research plans that do not include live animals that are being cared for, euthanased, or used by the project participants to accomplish research goals, teaching, or testing. These regulations also do not apply to obtaining animal materials from commercial processors of animal products or to animal cell lines or tissues from tissue banks.

Matching Funds: Although many of the programs described in this notice do not require cost share, if it is determined that your proposal falls within the authority of 19 U.S.C. 2543-45 cost share will be required as follows:

Pursuant to 19 U.S.C. 2543-45, financial assistance shall not exceed 75 percent of such program or activity, when the primary purpose of such program or activity is—

(1) To increase the awareness of proposed and adopted standards-related activities;

(2) To facilitate international trade through the appropriate international and domestic standards-related activities;

(3) To provide adequate United States representation in international standards-related activities; and

(4) To encourage United States exports through increased awareness of foreign standards-related activities that may affect United States exports.

Type of Funding Instrument: The funding instrument will be a grant or cooperative agreement, depending on the nature of the proposed work. A grant will be used unless NIST is “substantially involved” in the project, in which case a cooperative agreement will be used. A common example of substantial involvement is collaboration between NIST scientists and recipient scientists or technicals. Further examples are listed in Section 5.03.d of Department of Commerce Administrative Order 203-26, which can be found at http://www.osec.doc.gov/bmi/daos/203-26.htm. NIST will make decisions regarding the use of a cooperative agreement on a case-by-case basis. Funding for contractual arrangements for services and products for delivery to NIST is not available under this announcement.

Additional Requirements

Primary Application Certifications: All primary applicant institutions must submit a completed form CD-511, “Certifications Regarding Debarment, Suspension and Other Responsibility Matters; Drug-Free Workplace Requirements and Lobbying,” and the following explanations must be provided:

1. Nonprocurement Debarment and Suspension. Prospective participants (as defined at 15 CFR Part 26, Section 105) are subject to 15 CFR Part 26, “Nonprocurement Debarment and Suspension” and the related section of the certification form prescribed above applies;

2. Drug-Free Workplace. Grantees (as defined at 15 CFR Part 26, Section 605) are subject to 15 CFR Part 26, Subpart F, “Government wide Requirements for Drug-Free Workplace (Grants)” and the related section of the certification form prescribed above applies;

3. Anti-Lobbying. Persons (as defined at 15 CFR Part 28, Section 105) are subject to the lobbying provisions of 31 U.S.C. 1352, “Limitation on use of appropriated funds to influence certain Federal contracting and financial transactions,” and the lobbying section of the certification form prescribed above applies to applications/bids for grants, cooperative agreements, and contracts for more than $100,000, and loans and loan guarantees for more than $150,000, or the single family maximum mortgage limit for affected programs, whichever is greater.

4. Anti-Lobbying Disclosure. Any applicant institution that has paid or will pay for lobbying using any funds must submit an SF-LLL, “Disclosure of Lobbying Activities,” as required under 15 CFR Part 28, Appendix B.

5. Lower-tier Certifications. Recipients shall require applicant/bidder institutions for subgrants, contracts, subcontracts, or other lower tier covered transactions at any tier under the award to submit, if applicable, a completed Form CD-512, “Certifications Regarding Debarment, Suspension, Ineligibility and Voluntary Exclusion-Lower Tier Covered Transactions and Lobbying;” and disclosure form, SF-LLL, “Disclosure of Lobbying Activities.” Form CD-512 is intended for the use of recipients and should not be transmitted to NIST. SF-LLL submitted by any tier recipient or subrecipient should be submitted to NIST in accordance with the instructions contained in the award document.

Name Check Reviews: All for-profit and non-profit applicants will be subject to a name check review process. Name checks are intended to reveal if any key individuals associated with the applicant have been convicted of or are presently facing, criminal charges such as fraud, theft, perjury, or other matters which significantly reflect on the applicant's management honesty or financial integrity. Form CD-346 must be completed for all personnel with key programmatic or fiduciary responsibilities.

Preaward Activities: Applicants (or their institutions) who incur any costs prior to an award being made do so solely at their own risk of not being reimbursed by the Government. Notwithstanding any verbal assurance that may have been provided, there is no obligation on the part of NIST to cover pre-award costs.

No Obligation for Future Funding: If an application is accepted for funding, DOC has no obligation to provide any additional future funding in connection with that award. Renewal of an award to increase funding or extend the period of performance is at the total discretion of NIST.

Past Performance: Unsatisfactory performance under prior Federal awards may result in an application not being considered for funding.

False Statements: A false statement on an application is grounds for denial or termination of funds, and grounds for possible punishment by a fine or imprisonment as provided in 18 U.S.C. 1001.

Delinquent Federal Debts: No award of Federal funds shall be made to an applicant who has an outstanding delinquent Federal debt until either:

1. The delinquent account is paid in full,

2. A negotiated repayment schedule is established and at least one payment is received, or

3. Other arrangements satisfactory to DoC are made.

Indirect Costs: Regardless of any approved indirect cost rate applicable to the award, the maximum dollar amount of allocable indirect costs for which the DoC will reimburse the Recipient shall be the lesser of:

(a) the Federal Share of the total allocable indirect costs of the award based on the negotiated rate with the cognizant Federal agency as established by audit or negotiation; or

(b) the line item amount for the Federal share of indirect costs contained in the approved budget of the award.

For the Physics, MSEL, ITL, BFRL, and EEEL SURF Programs, no Federal funds will be authorized for Indirect Costs (IDC) nor fringe benefits; however, an applicant may provide for IDC and/or fringe benefits under his/her portion of Cost Sharing.

Purchase of American-made Equipment and Products: Applicants are hereby notified that they are encouraged, to the greatest practicable extent, to purchase American-made equipment and products with funding provided under this program.

Federal Policies and Procedures: Recipients and subrecipients under each of the above grant programs shall be subject to all Federal laws and Federal and Departmental regulations, policies, and procedures applicable to financial assistance awards, including 15 CFR Part 14 and 15 CFR Part 24, as applicable.

Each of the above grant programs does not directly affect any state or local government.

Applications under these programs are not subject to Executive Order 12372, “Intergovernmental Review of Federal Programs.”

Executive Order Statement: This funding notice was determined to be “not significant” for purposes of Executive Order 12866.

Dated: January 4, 2001.
Karen H. Brown,
Deputy Director.

[FR Doc. 01-836 Filed 1-10-01; 8:45 am]

BILLING CODE 3510-13-M